DEPARTMENT OF THE INTERIOR

National Park Service

[NPS-WASO-NRNHL-DTS#-34959; PPWOCRADI0, PCU00RP14.R50000]

National Register of Historic Places; Notification of Pending Nominations and Related Actions

AGENCY: National Park Service, Interior.

ACTION: Notice.

SUMMARY: The National Park Service is soliciting electronic comments on the significance of properties nominated before November 26, 2022, for listing or related actions in the National Register of Historic Places.

DATES: Comments should be submitted electronically by December 27, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 26, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

KANSAS

Atchison County

Chicago, Burlington & Quincy Railroad Freight Depot, (Railroad Resources of Kansas MPS), 118 South 2nd St., Atchison, MP100008521

Douglas County

Waters, Henry, House, (Lawrence, Kansas MPS), Address Restricted, Lawrence vicinity, MP100008522

Osage County

Luther Severy & Son Stock Farm, (Agriculture-Related Resources of Kansas MPS), 11506 West 285th St., Reading vicinity, MP100008526

Riley County

Yuma Street Historic District, (African American Resources in Manhattan, Kansas MPS), 931 Yuma St, and 900 blk. of Yuma St., Manhattan, MP100008518

Saline County

Pioneer Hall, Kansas Wesleyan University, 100 East Claflin Ave., Salina, SG100008519

Shawnee County

Ritchie Cemetery, 1900-1948 SW 27th St., Topeka, SG100008523

Wyandotte County

Whittier School, (Public Schools of Kansas MPS), 290 South 10th St., Kansas City, MP100008520

MICHIGAN

Wayne County

Immaculata High School, 16661 Greenlawn Avenue, Detroit, SG100008529

NEW HAMPSHIRE

Hillsborough County

Goodell Company Mill, 42 Main St., Antrim, SG100008525

SOUTH CAROLINA

Beaufort County

Lady's Island Bridge, US 21-Bus over Beaufort R. between Carteret St. and Sea Island Pkwy., Beaufort, SG100008530

Lexington County

Oliver, Peter M. and Alice, House, 295 West 1st St., Swansea, SG100008531

Richland County

Chapel of Hope, 2145 Pickens St., Columbia, SG100008527

Spartanburg County

Startex Finishing Company, 21-23 North Main St., Startex, SG100008528

Additional documentation has been received for the following resources:

ARIZONA

Pima County

Broadmoor Historic District (Additional Documentation), 2734 East Exeter St., Tucson, AD100006151

MICHIGAN

Marquette County

Savings Bank Building (Additional Documentation), 101 South Front St., Marquette, AD78001507

Authority: Section 60.13 of 36 CFR part 60.

Dated: November 30, 2022.
Sherry A. Frear,
Chief, National Register of Historic Places/National Historic Landmarks Program.

[FR Doc. 2022-26836 Filed 12-8-22; 8:45 am]

BILLING CODE 4312-52-P